DEPARTMENT OF JUSTICE

Immigration and Naturalization Service

[INS No. 2225-02; AG Order No. 2610-2002]

RIN 1115-AE26

Extension of the Designation of Burundi Under the Temporary Protected Status Program

AGENCY: Immigration and Naturalization Service, Justice.

ACTION: Notice.

SUMMARY: The designation of Burundi under the Temporary Protected Status (TPS) program will expire on November 2, 2002. This notice extends the Attorney General's designation of Burundi under the TPS program for 12 months until November 2, 2003, and sets forth procedures necessary for nationals of Burundi (or aliens having no nationality who last habitually resided in Burundi) with TPS to re-register for the additional 12-month period. Eligible nationals of Burundi (or aliens having no nationality who last habitually resided in Burundi) may re-register for TPS and an extension of employment authorization. Re-registration is limited to persons who registered during the initial registration period, which ended on November 3, 1998, who registered during the re-designation registration period, which ended on November 2, 2000, or who registered after that date under the late initial registration provisions, and who timely re-registered under each subsequent extension. Nationals of Burundi (or aliens having no nationality who last habitually resided in Burundi) who previously have not applied for TPS may be eligible to apply under the late initial registration provisions.

EFFECTIVE DATES: The extension of the TPS designation for Burundi is effective November 2, 2002, and will remain in effect until November 2, 2003. The 60-day re-registration period begins on August 30, 2002, and will remain in effect until October 29, 2002.

FOR FURTHER INFORMATION CONTACT: Pearl Chang, Residence and Status Services Branch, Adjudications, Immigration and Naturalization Service, Room 3040, 425 I Street NW., Washington, DC 20536, telephone (202) 514-4754.

SUPPLEMENTARY INFORMATION:

What Authority Does the Attorney General Have To Extend the Designation of Burundi Under the TPS Program?

Section 244(b)(3)(A) of the Immigration and Nationality Act (Act) states that, at least 60 days before the end of a designation or extension thereof, the Attorney General must review conditions in the foreign state for which the designation is in effect. 8 U.S.C. 1254a(b)(3)(A). If the Attorney General does not determine that the foreign state no longer continues to meet the conditions for designation, the period of designation is extended automatically for 6 months pursuant to section 244(b)(3)(C) of the Act, although the Attorney General may exercise his discretion to extend the designation for a period of 12 or 18 months. 8 U.S.C. 1254a(b)(3)(C).

Why Did the Attorney General Decide To Extend the TPS Designation for Burundi?

On November 4, 1997, the Attorney General designated Burundi under the TPS program for a period of 12 months. 62 FR 59735. The Attorney General has since extended the TPS designation three times and redesignated Burundi once, after determining each time that the conditions warranting such designation continued to be met. See 66 FR 46027 (August 31, 2001) (extension); 65 FR 67404 (November 9, 2000) (extension); 64 FR 61123 (November 9, 1999) (extension and redesignation); 63 FR 59334 (November 3, 1998) (extension).

Since the date of the last extension, the Department of Justice and the Department of State (DOS) have continued to review conditions in Burundi. The DOS reports that the armed conflict within Burundi persists: “Although a transitional government took office in November 2001, Burundi is still undergoing civil war. [The United Nations High Commissioner for Refugees (UNHCR)] recently began facilitating voluntary refugee returns to selected provinces; however, much of the country remains insecure. Government security forces and rebel groups continue to commit serious human rights abuses against civilians, including extrajudicial killings, disappearances, rape, torture, arbitrary arrest and detention, forced displacement, and forced labor.” State Department Report (July 1, 2002). The DOS states that “[t]here is no cease-fire in effect despite continuing peace negotiations. Armed rebel groups continue fighting government forces in several areas of the country. Civilian authorities do not maintain effective control of security forces. Rebel attacks on the military are often followed by army reprisals against civilians suspected of cooperating with the insurgents. Rebels reportedly often kill persons for suspected collaboration with the government and for their refusal to pay ‘taxes’ to rebels.” Id. The DOS concludes that “[r]ebel attacks and government counter-attacks occur unpredictably. Serious human rights abuses continue to be committed by both sides. The prospects for a cease-fire in the near future are uncertain. Rebel groups do not support the return of refugees, so that even refugees' return to relatively ‘safe’ areas is a potential source of instability and further violence.” Id.

Likewise, the Resource Information Center of the Immigration and Naturalization Service (INS/Service) assessed conditions in Burundi and found that “[r]esolution of the armed conflict, which pervades most of Burundi, and has resulted in massive human rights violations by both government and rebel forces, appears to have no end in sight.” The INS Resource Information Center Report (July 2, 2002) (RIC Report). The UNHRC reported in March 2002 that violence had increased since October 2001, and “[w]hile not intense, the conflict in Burundi extends throughout the country with the exception of the provinces of Ngozi and Kirundo * * * [The] country is more at war than at peace. * * * The belligerents on all sides take revenge on the population for its silence, neutrality or complicity with the other camp.” Report of Special Rapporteur, U.N. Commission on Human Rights (Mar. 7, 2002). The U.S. Committee for Refugees reported in March 2002 that 150,000 Burundis were displaced from their homes between January 2001 and March 2002, including 80,000 in the first 3 months of 2002. U.S. Committee for Refugees Report (Mar. 21, 2002).

There is an ongoing armed conflict within Burundi, and due to such conflict, requiring the return of aliens who are nationals of Burundi (or aliens having no nationality who last habitually resided in Burundi) would pose a serious threat to their personal safety. 8 U.S.C.1254a(b)(1)(A). Based on this review, the Attorney General finds that the conditions that prompted designation of Burundi under the TPS program continue to be met. 8 U.S.C. 1254a(b)(3)(A). Furthermore, there exist extraordinary and temporary conditions in Burundi that prevent nationals of Burundi (and aliens having no nationality who last habitually resided in Burundi) from returning home in safety. 8 U.S.C. 1254a(b)(1)(C). Finally, permitting nationals of Burundi to remain temporarily in the United States is not contrary to the national interest of the United States. 8 U.S.C. 1254a(b)(1). On the basis of these findings, the Attorney General concludes that the TPS designation for Burundi should be extended for an additional 12-month period. 8 U.S.C 1254a(b)(3)(C).

If I Currently Have TPS Benefits Through the Burundi TPS Program, Must I Still Re-Register for TPS?

Yes. If you already have received TPS benefits through the Burundi TPS program, your benefits will expire on November 2, 2002. Accordingly, you must re-register for TPS in order to maintain your benefits through November 2, 2003. See the following re-registration instructions. The TPS benefits include temporary protection against removal from the United States, as well as work authorization, during the TPS designation period and any extension thereof. 8 U.S.C. 1254a(a)(1).

If I am Currently Registered for TPS, How Do I Re-Register for an Extension?

All persons previously granted TPS benefits under the Burundi program who wish to maintain such benefits must apply for an extension by filing (1) Form I-821, Application for Temporary Protected Status, without the filing fee; (2) Form I-765, Application for Employment Authorization; and (3) two identification photographs (1½ inches × 1½ inches). See the chart below to determine whether you must submit the one hundred and twenty dollar ($120) filing fee with the Form I-765. Children beneficiaries of TPS, who have reached the age of 14 but were not previously fingerprinted, must pay the fifty dollar ($50) fingerprint fee upon their next application for extension.

Submit the re-registration package and applicable fee, if any, to the Service district office that has jurisdiction over your place of residence during the 60-day re-registration period that begins August 30, 2002, and will remain in effect until October 29, 2002.

If | Then
You are applying for an Employment Authorization Document that is valid through November 2, 2003 . . . | You must complete and file Form I-765, Application for Employment Authorization, with the $120 fee.
You already have an Employment Authorization Document or do not require such a document . . . | You must complete and file Form I-765 with no fee.
You are applying for an Employment Authorization Document and are requesting a fee waiver . . . | You must complete and file: (1) Form I-765, with no fee, and (2) a fee waiver request and affidavit (and any other information) in accordance with 8 CFR 244.20.

How Does an Application for TPS Affect my Application for Asylum or Other Immigration Benefits?

An application for TPS does not affect an application for asylum or any other immigration benefit. A national of Burundi (or alien having no nationality who last habitually resided in Burundi) who is otherwise eligible for TPS and has applied for, or plans to apply for, asylum but who has not yet been granted asylum or withholding of removal, may also apply for TPS. Denial of an application for asylum or any other immigration benefit does not affect an applicant's eligibility to apply for TPS, although the grounds for denying one form of relief may also be grounds for denying TPS. For example, a person who has been convicted of a particularly serious crime is not eligible for asylum or TPS. 8 U.S.C. 1158(b)(2); 8 U.S.C. 1254a(c)(2)(B)(i).

Does This Extension Allow Nationals of Burundi (or Aliens Having No Nationality Who Last Habitually Resided in Burundi) Who Entered the United States After November 9, 1999, To File for TPS?

No. This is a notice of an extension of the TPS designation for Burundi, not a notice of redesignation of Burundi under the TPS program. An extension of TPS does not change the required dates of continuous residence and continuous physical presence in the United States. This extension does not expand TPS availability to those who are not already TPS class members. To be eligible for benefits under this extension, nationals of Burundi (or aliens having no nationality who last habitually resided in Burundi) must have been continuously physically present and continuously resided in the United States since November 9, 1999.

Is Late Initial Registration Possible?

Yes. Some persons may be eligible for late initial registration under 8 CFR 244.2(f)(2). To apply for late initial registration an applicant must:

(1) Be a national of Burundi (or an alien who has no nationality and who last habitually resided in Burundi);

(2) Have been continuously physically present in the United States since November 9, 1999;

(3) Have continuously resided in the United States since November 9, 1999; and

(4) Be both admissible as an immigrant, except as otherwise provided under section 244(c)(2)(A) of the Act, and also not ineligible under section 244(c)(2)(B) of the Act.

Additionally, the applicant must be able to demonstrate that, during the redesignation registration period from November 9, 1999, through November 2, 2000, he or she:

(1) Was a nonimmigrant or had been granted voluntary departure status or any relief from removal,

(2) Had an application for change of status, adjustment of status, asylum, voluntary departure, or any relief from removal or change of status pending or subject to further review or appeal,

(3) Was a parolee or had a pending request for reparole, or

(4) Was the spouse or child of an alien currently eligible to be a TPS registrant. 8 CFR 244.2(f)(2).

An applicant for late initial registration must file an application for late registration within a 60-day period immediately following the expiration or termination of the conditions described above. 8 CFR 244.2(g).

Notice of Extension of Designation of Burundi Under the TPS Program

By the authority vested in me as Attorney General under sections 244(b)(1), (b)(3)(A), and (b)(3)(C) of the Act, I have consulted with the appropriate government agencies and determine that the conditions that prompted designation of Burundi for TPS continue to be met. 8 U.S.C. 1254a(b)(3)(A). Accordingly, I order as follows:

(1) The designation of Burundi under section 244(b) of the Act is extended for an additional 12-month period from November 2, 2002, to November 2, 2003. 8 U.S.C. 1254a(b)(3)(C).

(2) I estimate that there are approximately thirteen (13) nationals of Burundi (or aliens who have no nationality and who last habitually resided in Burundi) who are eligible for re-registration.

(3) To maintain TPS, a national of Burundi (or an alien having no nationality who last habitually resided in Burundi) who previously has applied for or received TPS benefits must re-register for TPS during the 60-day re-registration period from August 30, 2002, until October 29, 2002.

(4) To re-register, the applicant must file the following: (1) Form I-821, Application for Temporary Protected Status; (2) Form I-765, Application for Employment Authorization; and (3) two identification photographs (1½ inches by 1½ inches). There is no fee for a Form I-821 filed as part of the re-registration application. If the applicant requests employment authorization documentation, he or she must submit one hundred and twenty dollars ($120) or a properly documented fee waiver request, pursuant to 8 CFR 244.20, with the Form I-765. An applicant who does not request employment authorization documentation must nonetheless file Form I-765 along with Form I-821, but is not required to submit the fee. The fifty dollar ($50) fingerprint fee is required only for children beneficiaries of TPS who have reached the age of 14 but were not previously fingerprinted. Failure to re-register without good cause will result in the withdrawal of TPS. 8 CFR 244.17(c). Some persons who had not previously applied for TPS may be eligible for late initial registration under 8 CFR 244.2.

(5) Information concerning the Burundi TPS program will be available at local Service offices upon publication of this notice and the INS National Customer Service Center at 1-800-375-5283. This information will also be published on the INS Web site at http://www.ins.usdoj.gov.

Dated: August 26, 2002.
John Ashcroft,
Attorney General.

[FR Doc. 02-22210 Filed 8-29-02; 8:45 am]

BILLING CODE 4410-10-P